DEPARTMENT OF DEFENSE

Department of the Army, Corps of Engineers

Intent To Prepare a Draft NEPA Document for the Upper St. Anthony Falls Lock and Dam, Lower St. Anthony Falls Lock and Dam, and Lock and Dam 1 Disposition Study, Hennepin and Ramsey Counties, Minnesota

AGENCY: U.S. Army Corps of Engineers, DoD.

ACTION: Notice of intent to initiate public scoping and prepare an Environmental Assessment (EA).

SUMMARY: The St. Paul District, Army Corps of Engineers (MVP) is conducting a study regarding the disposition of the Upper St. Anthony Falls Lock and Dam, Lower St. Anthony Falls Lock and Dam, and Lock and Dam 1 located in the Upper Mississippi River, Hennepin and Ramsey Counties, Minnesota. The study will include an environmental assessment and consider opportunities regarding deauthorization and disposal of any or all of the three lock and dam sites. The study will evaluate two primary alternatives: (1) No action; and, (2) deauthorization by Congress of the Federal missions at the sites and disposal according to Federal law. Deauthorization would include portions of the Mississippi River 9-foot navigation channel and the lands and structures associated with each lock and dam site. It is anticipated that a draft report of the integrated Disposition Study and Environmental Assessment (EA) will be available for a 30-day public comment period in the Spring of 2019. The St. Paul District of the Army Corps of Engineers is soliciting public comments on the proposed study, potential interest in future ownership if disposal of the properties is warranted, and substantive issues that should be analyzed in the EA.

DATES:

Scoping Meetings: MVP will hold public scoping meetings at the following times and locations during the scoping period:

Monday, July 16th from 6:00 p.m. to 8:00 p.m. at the Mill City Museum, 704 South Second Street, Minneapolis, Minnesota 55401.

Tuesday, July 17th from 6:00 p.m. to 8:00 p.m. at the Highland Park Senior High School Auditorium, 1015 Snelling Avenue South, St. Paul, Minnesota, 55116.

At the scoping meetings, the public is encouraged to submit resource information, and identify topics to be considered in the development of the EA. Written and oral comments will be accepted at each meeting.

Comments: MVP will accept comments received or postmarked on or before August 20, 2018. Any comments that we receive after the closing date may not be considered.

ADDRESSES: Comments may be submitted by one of the following methods:

Email—Written comments should be sent to: MplsLocksDisposition@usace.army.mil.

Mail/Courier—Written comments should be sent to: District Engineer, U.S. Army Corps of Engineers St. Paul District, ATTN: Regional Planning and Environment Division North, 180 Fifth Street East, Suite 700, St. Paul, Minnesota 55101-1678.

Comment Card—Comment cards provided as part of the public meetings will be collected at the end of the meeting or can be mailed to the address in the MAIL/COURIER section above.

If submitting comments by email, the following should be included in the subject line or first line of the message: “USAF, LSAF, L/D 1 Disposition Study Comments”.

FOR FURTHER INFORMATION CONTACT: To have your name added to a mailing list for notices related to the draft report and EA or additional public meetings, submit an email request to MplsLocksDisposition@usace.army.mil. General questions about the study may be directed to Nan Bischoff, Project Manager, U.S. Army Corps of Engineers, St. Paul District, 180 Fifth Street East, Suite 700, St. Paul, MN 55101-1678; telephone (651) 290-5426; email: Nanette.m.bischoff@usace.army.mil.

SUPPLEMENTARY INFORMATION: The St. Paul District, Army Corps of Engineers (MVP) operates the Upper St. Anthony Falls Lock and Dam (USAF), Lower St. Anthony Falls Lock and Dam (LSAF), and Lock and Dam No. 1 (L/D 1), located on the Mississippi River in Minneapolis and St. Paul, Minnesota. MVP also maintains the navigation channel in proximity to these dams which involves periodic dredging. Section 2010 of the Water Resources Reform and Development Act of 2014 (WRRDA 2014), dated 10 June 2014, directed that USAF be closed within one year of the date of enactment of the Act, but did not deauthorize USAF. Prior to the closure of USAF, the three locks operated as a system to support navigation on the upper reaches of the Mississippi River 9-foot navigation channel. With the lock at USAF now closed to navigation, the demand for both commercial and recreational lockage has decreased due to the navigational disconnect in the Mississippi River at USAF. Deauthorization and disposal of one or more of the three sites may be warranted if the sites are deemed to not be fulfilling their authorized purposes. Deauthorization would also preclude maintenance activities of the navigation channel in proximity to these dams. The current authorized purposes are navigation and recreation.

Section 216 of the Flood Control Act of 1970 authorizes the Secretary of the Army to review operations of completed projects, when found advisable due to changed physical, economic, or environmental conditions. Disposition studies are a specific type of Section 216 study with the intent to determine whether a water resources development project operated and maintained by the Corps of Engineers should be deauthorized and the associated real property and Government-owned improvements disposed of. An Initial Appraisal (IA) was conducted by the Corps in 2015 to determine if conditions exist which may warrant further analysis on a completed project as authorized by Section 216. The IA recommended investigation under this authority regarding the future use or disposition of USAF, LSAF, and L/D 1.

The purpose of the Disposition Study is to determine what federal interest exists to retain USAF, LSAF, and/orL/D 1 for its authorized purpose(s) based on an evaluation and comparison of the benefits, costs, and impacts (positive and negative) of continued operation, maintenance, repair, replacement, and rehabilitation, compared to the deauthorization and disposal of the associated real properties. The Disposition Study ends when the final report is transmitted to the Corps of Engineers' Headquarters Office for review and processing of recommendations. Deauthorization would require Congressional Approval.

In accordance with the National Environmental Policy Act of 1969 (NEPA), an Environmental Assessment (EA) for this study is anticipated and will be prepared by MVP. The study will broadly evaluate two primary alternatives: (1) The no action; and, (2) deauthorization by Congress of the Federal navigation-related missions at the sites and disposal of the properties according to Federal law. Deauthorization would include portions of the Mississippi River 9-foot navigation channel associated with each lock and dam site. MVP is soliciting public comments on the scope of the EA and significant issues that should be addressed. MVP will also accept comments related to potential new ownership and management measures.

Two public scoping meetings are planned as discussed in the DATES section above. The primary purpose of these meetings is to provide a general understanding of the background of the proposed action and to solicit suggestions and information on the scope of issues to consider in the EA. Written and oral comments will be accepted at the meetings. Comments can also be submitted by the methods listed in the ADDRESSES section. Once the draft EA is complete and made available for review, there will be additional opportunity for public comment.

Persons needing reasonable accommodations in order to attend and participate in the public scoping meetings should contact the person listed under the FOR FURTHER INFORMATION CONTACT section as soon as possible. In order to allow sufficient time to process requests, please make contact no later than one week before the public meeting.

Written comments, including email comments, should be sent to MVP at the address given in the ADDRESSES section of this Notice. Comments should be specific and pertain only to the issues relating to the action and the anticipated EA. MVP will include all comments in the project record.

Before including your address, phone number, email address, or other personal identifying information in your comment, you should be aware that your entire comment—including your personal identifying information—will be publicly available. While you can ask in your comment to have your personal identifying information withheld from public review, MVP cannot guarantee that we will be able to do so.

All submissions from organizations or businesses and from individuals identifying themselves as representatives or officials of organizations or businesses will be available for public review to the extent consistent with applicable law.

Dated: June 13, 2018.
Terry J. Birkenstock,
Deputy Chief, Regional Planning and Environment Division North.

[FR Doc. 2018-14070 Filed 6-28-18; 8:45 am]

BILLING CODE 3720-58-P